DEPARTMENT OF LABOR

Employment and Training Administration

[TA-W-51,338]

National Refractories and Minerals Corporation, Headquarters of National Refractories Holding Co., Livermore, CA; Notice of Termination of Investigation

Pursuant to section 221 of the Trade Act of 1974, as amended, an investigation was initiated on March 27, 2003 in response to a worker petition filed by a company official on behalf of workers at National Refractories and Minerals Corporation, Headquarters of National Refractories Holding Co., Livermore, California.

The petitioning worker group is covered by a certification issued on April 16, 2003, TA-W-51,337.

Consequently, further investigation in this case would serve no purpose, and the petition has been terminated.

Signed at Washington, DC, this 16th day of April, 2003.
Linda G. Poole,
Certifying Officer, Division of Trade Adjustment Assistance.

[FR Doc. 03-10344 Filed 4-25-03; 8:45 am]

BILLING CODE 4510-30-U